COMMODITY FUTURES TRADING COMMISSION

SECURITIES AND EXCHANGE COMMISSION

[Release No. 34-64638; File Nos. 4-633 and S7-39-10]

Joint Public Roundtable on Proposed Dealer and Major Participant Definitions of Title VII of the Dodd-Frank Wall Street Reform and Consumer Protection Act

AGENCIES: Commodity Futures Trading Commission (“CFTC”) and Securities and Exchange Commission (“SEC”) (each, an “Agency,” and collectively, the “Agencies”).

ACTION: Notice of roundtable discussion; request for comment.

SUMMARY: On Thursday, June 16, 2011, commencing at 9 a.m. and ending at 3:45 p.m., staff of the Agencies will hold a public roundtable meeting at which invited participants will discuss various issues related to the proposed definitions of the terms “swap dealer,” “security-based swap dealer,” “major swap participant,” and “major security-based swap participant” under Title VII of the Dodd-Frank Wall Street Reform and Consumer Protection Act (the “Act”). See 75 FR 80174 (Dec. 21, 2010). The discussion will be open to the public with seating on a first-come, first-served basis. Members of the public may also listen to the meeting by telephone. Call-in participants should be prepared to provide their first name, last name and affiliation. The information for the conference call is set forth below.

• U.S. Toll-Free: (866) 844-9416.

• International Toll: information on international dialing can be found at the following link: http://www.cftc.gov/PressRoom/PressReleases/internationalnumbers021811.html.

• Conference ID: 7731946.

A transcript of the public roundtable discussion will be published at http://www.cftc.gov/PressRoom/Events/2011/index.htm. The roundtable discussion will take place in the Conference Center at the CFTC's headquarters, Three Lafayette Centre, 1155 21st Street, NW., Washington, DC.

FOR FURTHER INFORMATION CONTACT: The CFTC's Office of Public Affairs at (202) 418-5080 or the SEC's Office of Public Affairs at (202) 551-4120.

SUPPLEMENTARY INFORMATION: The roundtable discussion will take place on Thursday, June 16, 2011, commencing at 9 a.m. and ending at 3:45 p.m. Members of the public who wish to comment on the topics addressed at the discussion, may do so via:

• Paper submission to David Stawick, Secretary, Commodity Futures Trading Commission, Three Lafayette Centre, 1155 21st Street, NW., Washington, DC 20581, or Elizabeth M. Murphy, Secretary, Securities and Exchange Commission, 100 F Street, NE., Washington, DC 20549-1090; or

• Electronic submission via visiting http://comments.cftc.gov/PublicComments/ReleasesWithComments.aspx and submitting comments through the CFTC's Web site; and/or by e-mail to rule-comments@sec.gov (all e-mails must reference the file numbers 4-633 and S7-39-10 in the subject field) or through the comment form available at: http://www.sec.gov/rules/other.shtml.

All submissions will be reviewed jointly by the Agencies. All comments must be in English or be accompanied by an English translation. All submissions provided to either Agency in any electronic form or on paper will be published on the Web site of the respective Agency, without review and without removal of personally identifying information. Please submit only information that you wish to make publicly available.

Dated: June 9, 2011.
By the Commodity Futures Trading Commission.
David A. Stawick,
Secretary.
Dated: June 9, 2011.
By the Securities and Exchange Commission.
Elizabeth M. Murphy,
Secretary.

[FR Doc. 2011-14729 Filed 6-13-11; 8:45 am]

BILLING CODE P